ENVIRONMENTAL PROTECTION AGENCY

[Petitions IV-2002-4 and -6 FRL-8166-7]

Clean Air Act Operating Permit Program; Petitions for Objection to State Operating Permit Amendments for Georgia Power Company—Bowen Steam-Electric Generating Plant, Cartersville (Bartow County), GA; Branch Steam-Electric Generating Plant, Milledgeville (Putnam County), GA; Hammond Steam-Electric Generating Plant, Coosa (Floyd County), GA; McDonough/Atkinson Steam-Electric Generating Plant, Smyrna (Cobb County), GA; Scherer Steam-Electric Generating Plant, Juliette (Monroe County), GA; Wansley Steam-Electric Generating Plant, Roopville (Heard County), GA; and Yates Steam-Electric Generating Plant, Newnan (Coweta County), GA

AGENCY: Environmental Protection Agency (EPA).

ACTION: Notice of final order denying petitions to object to state operating permit amendments.

SUMMARY: Pursuant to Clean Air Act Section 505(b)(2) and 40 CFR 70.8(d), the EPA Administrator signed an order, dated March 15, 2006, denying two (2) petitions to object to state operating permit amendments issued by the Georgia Environmental Protection Division (EPD) to Georgia Power Company for the following facilities: Bowen Steam-Electric Generating Plant located in Cartersville, Bartow County, Georgia; Branch Steam-Electric Generating Plant located in Milledgeville, Putnam County, Georgia; Hammond Steam-Electric Generating Plant located in Coosa, Floyd County, Georgia; McDonough/Atkinson Steam-Electric Generating Plant located in Smyrna, Cobb County, Georgia; Scherer Steam-Electric Generating Plant located in Juliette, Monroe County, Georgia; Wansley Steam-Electric Generating Plant located in Roopville, Heard County, Georgia; and Yates Steam-Electric Generating Plant located in Newnan, Coweta County, Georgia. This order constitutes final action on two (2) petitions submitted by the Georgia Center for Law in the Public Interest (GCLPI) on behalf of the Sierra Club, Georgia Forest Watch, and Colleen Kiernan and the Sierra Club and Georgia Public Interest Research Group, respectively. Pursuant to section 505(b)(2) of the Clean Air Act (the Act) any person may seek judicial review in the United States Court of Appeals for the appropriate circuit within 60 days of this notice under section 307 of the Act.

ADDRESSES: Copies of the Order, the petitions, and all pertinent information relating thereto are on file at the following location: EPA Region 4, Air, Pesticides and Toxics Management Division, 61 Forsyth Street SW, Atlanta, Georgia 30303-8960. The final order is also available electronically at the following address: http://www.epa.gov/region7/programs/artd/air/title5/petitiondb/petitions/bowen-7plants_decision2002.pdf.

FOR FURTHER INFORMATION CONTACT: Art Hofmeister, Air Permits Section, EPA Region 4, at (404) 562-9115 or hofmeister.art@epa.gov.

SUPPLEMENTARY INFORMATION: The Act affords EPA a 45-day period to review and, as appropriate, to object to operating permits proposed by state permitting authorities under title V of the Act, 42 U.S.C. 7661-7661f. Section 505(b)(2) of the Act and 40 CFR 70.8(d) authorize any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or the grounds for the issues arose after this period.

On July 9, 2002, EPA received a petition submitted by GCLPI on behalf of the Sierra Club, Georgia Forest Watch, and Colleen Kiernan (Petitioners), requesting that EPA object to a state title V operating permit amendment issued by EPD to Georgia Power for Plant Bowen. On November 20, 2002, EPA received another petition from GCLPI on behalf of the Sierra Club and Georgia Public Interest Research Group (Petitioners), requesting that EPA object to another state title V operating permit amendment issued by EPD to Georgia Power for Plant Bowen as well as six (6) other state title V operating permit amendments issued for Plants Branch, Hammond, McDonough/Atkinson, Scherer, Wansley, and Yates. The Petitioners maintain that the respective permit amendments are inconsistent with the Act because the emissions reductions required by the permit terms contained therein do not qualify as offsets. Since the petitions have been determined by EPA to be interrelated, they have been considered together.

On March 15, 2006, the Administrator issued an order denying the petitions. The order explains the reasons behind EPA's conclusion that the Petitioners failed to demonstrate that the respective permit amendments are not in compliance with the requirements of the Act.

Dated: April 25, 2006.
A. Stanley Meiburg,
Deputy Regional Administrator, Region 4.

[FR Doc. E6-6772 Filed 5-3-06; 8:45 am]

BILLING CODE 6560-50-P